DEPARTMENT OF COMMERCE

National Oceanic and Atmospheric Administration

RIN 0648-XU02

Endangered and Threatened Species; Recovery Plan for the Cook Inlet Beluga Whale

AGENCY: National Marine Fisheries Service (NMFS), National Oceanic and Atmospheric Administration (NOAA), Commerce.

ACTION: Notice of availability.

SUMMARY: We, NMFS, announce the adoption and availability of an Endangered Species Act Recovery Plan for the Cook Inlet beluga whale (Delphinapterus leucas) distinct population segment (DPS) found in Cook Inlet, AK.

ADDRESSES: The Recovery Plan is available on the NMFS Alaska Region Web site at: https://alaskafisheries.noaa.gov/pr/cib-recovery-plan, or upon request from the NMFS Alaska Region contact listed below.

FOR FURTHER INFORMATION CONTACT: Mandy Migura, NMFS Alaska Region, telephone: (907) 271-1332, email: Mandy.Migura@noaa.gov; or Therese Conant, NMFS Office of Protected Resources, telephone: (301) 427-8456, email: Therese.Conant@noaa.gov.

SUPPLEMENTARY INFORMATION:

Background

The Endangered Species Act (ESA) of 1973, as amended (16 U.S.C. 1531 et seq.), requires that we develop and implement recovery plans for listed species under our jurisdiction, unless it is determined that such a plan would not promote the conservation of a particular species. Recovery plans describe the specific actions considered necessary, based on the best scientific and commercial data available, to promote the conservation and recovery of species listed under the ESA.

We designated the Cook Inlet beluga whale DPS as endangered under the ESA on October 22, 2008 (73 FR 62919). The Cook Inlet beluga whale population declined nearly 50 percent from 653 belugas in 1994 to 347 belugas in 1998 (based on annual comprehensive and systematic aerial surveys), coincident with a substantial unregulated subsistence hunt. Despite a dramatic reduction in subsistence harvest of Cook Inlet beluga whales beginning in 1999, the population did not grow as expected, but continued to decline at 1.45 percent per year from 1999 to 2008, leading to its listing as endangered. The most recent (2014) abundance survey estimated a population of 340 Cook Inlet beluga whales, with a continued population decline of 0.4 percent per year from 2004 to 2014.

On May 15, 2015, we released the Draft Recovery Plan for the Cook Inlet Beluga Whale (Draft Recovery Plan) and published a notice of availability in the Federal Register (80 FR 27925) requesting comments. Twenty-three comment submissions were received during the 60-day public comment period on the plan. Concurrent with the public comment period, we also obtained review of the Draft Recovery Plan from five independent scientific peer reviewers. We considered all of the peer review and public comments received on the Draft Recovery Plan in developing the final version of the Recovery Plan.

The Recovery Plan

Section 4(f)(1) of the ESA requires that recovery plans incorporate, to the maximum extent practicable: (1) Objective, measurable criteria which, when met, would result in a determination that the species is no longer threatened or endangered; (2) site-specific management actions necessary to achieve the plan's goals; and (3) estimates of the time required and costs to implement recovery actions. The ultimate goal of the Recovery Plan is to achieve recovery of endangered Cook Inlet beluga whales to a level sufficient to warrant their removal from the List of Threatened and Endangered Wildlife and Plants under the ESA (delist). The intermediate goal is to reclassify Cook Inlet belugas from endangered to threatened (downlist). The Recovery Plan contains: (1) Background on Cook Inlet beluga whale natural history and population status; (2) a threats assessment, (3) biological and recovery criteria for downlisting and delisting, (4) actions necessary to promote the recovery of the species, (5) an implementation schedule, and (6) estimates of time and cost to recovery.

Ten potential threat types are identified and assessed in the Recovery Plan, based on current knowledge of threat factors. The threats assessment ranks each of these ten threats as high (catastrophic events, cumulative effects of multiple stressors, and noise), medium (disease agents, habitat loss or degradation, reduction in prey, and unauthorized take), or low (pollution, predation, and subsistence hunting) relative concern for Cook Inlet beluga whale recovery. Due to an incomplete understanding of the threats facing Cook Inlet beluga whales, we are unable to identify with certainty the actions that will most immediately encourage recovery. Until we know which threats are limiting recovery, the strategy of the Recovery Plan is to focus on threats identified as of medium or high relative concern. This should focus efforts and resources on actions that are more likely to benefit Cook Inlet beluga whale recovery.

The Recovery Plan incorporates both demographic and threats-based criteria which, when met, would indicate that reclassifying the species from endangered to threatened, or delisting the species, should be considered. The threats-based recovery criteria are designed to evaluate the five ESA section 4(a)(1) factors described in the ESA listing determination for Cook Inlet beluga whales.

In summary, Cook Inlet beluga whales may be considered for reclassification from endangered to threatened when: (1) The abundance estimate for Cook Inlet beluga whales is greater than or equal to 520 individuals, and there is 95 percent or greater probability that the most recent 25-year population abundance trend (where 25 years represents one full generation) is positive; and (2) the 10 downlisting threats-based criteria are satisfied. Cook Inlet beluga whales may be considered for delisting when: (1) The abundance estimate for Cook Inlet beluga whales is greater than or equal to 780 individuals, and there is 95 percent or greater probability that the most recent 25-year population abundance trend (where 25 years represents one full generation) is positive; and (2) the 10 downlisting and 9 delisting threats-based criteria are satisfied.

Because a comprehensive approach to Cook Inlet beluga whale recovery is likely to have greater success, rather than focusing on any one type of action, the recovery actions in the Recovery Plan include research, management, monitoring, and education/outreach efforts. When determining threats-based recovery actions, we aimed to improve understanding of those threats and their population-level consequences; and to improve our ability to manage and eliminate or mitigate those threats. In addition to addressing the threats, we recognize the importance of continuously monitoring the Cook Inlet beluga whale population, and have therefore included recovery actions specific to population monitoring goals. There are also actions targeted at incorporating new information into management actions and other elements of the Recovery Plan, and conducting regular reassessments of the status of the Cook Inlet beluga population and each of the threats to its recovery. As the results of research, monitoring, and reassessments become available, we recognize the levels of concern for the threats, as well as the priorities, may change. The Recovery Plan is meant to be adaptive to allow for such changes.

The Recovery Plan also includes estimates of the time and costs required to implement recovery actions. The total time and cost to recovery are very difficult to predict with the current information, and the total cost to recovery will be largely dependent upon the number of recovery actions requiring implementation. Since that cannot be determined prior to implementation of portions of this plan, the total cost presented assumes implementation of all recovery actions. As recovery progresses and we better understand the relationship between discrete threats and population dynamics, it may become apparent that there are some threats or recovery actions that need not be addressed to achieve recovery. We therefore expect that the total estimated cost to achieve recovery presented in the Recovery Plan is high.

It is expected that recovery may take at least two generations (50 years). If every identified recovery action were implemented and if recovery plan implementation lasted for 50 years, then the estimated cost of implementing this entire recovery program would be approximately $76.8 million. Any projections of total costs over the full recovery period are likely to be imprecise, and the cost estimates do not imply that appropriate levels of funding will necessarily be available for all Cook Inlet beluga whale recovery tasks. We note that recovery plans are guidance and planning documents only, and the identification of an action to be implemented by any public or private party does not create a legal obligation beyond existing legal requirements.

Conclusion

NMFS has reviewed the Recovery Plan for compliance with the requirements of ESA section 4(f), determined that it incorporates the required elements, and is therefore adopting the Recovery Plan for Cook Inlet beluga whales.

Authority: 16 U.S.C. 1531 et seq.

Dated: December 29, 2016.
Angela Somma,
Chief, Endangered Species Division, Office of Protected Resources, National Marine Fisheries Service.

[FR Doc. 2016-31877 Filed 1-4-17; 8:45 am]

BILLING CODE 3510-22-P